DEPARTMENT OF THE INTERIOR

National Park Service

Notice of Inventory Completion for Native American Human Remains and Associated Funerary Objects in the Possession of the Peabody Museum of Archaeology and Ethnology, Harvard University, Cambridge, MA

AGENCY: National Park Service.

ACTION: Notice.

Notice is hereby given in accordance with provisions of the Native American Graves Protection and Repatriation Act (NAGPRA), 43 CFR 10.9, of the completion of an inventory of human remains and associated funerary objects in the possession of the Peabody Museum of Archaeology and Ethnology, Harvard University, Cambridge, MA.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by the Peabody Museum of Archaeology and Ethnology professional staff in consultation with representatives of the Comanche Indian Tribe, Oklahoma.

On October 1, 1877, human remains representing one individual were donated to the Peabody Museum of Archaeology and Ethnology by Dr. T.O. Summers of Nashville, TN. No known individual was identified. No associated funerary objects are present.

Museum records indicate that the collector, the collection dates, and the specific site from which the remains were collected are unknown. Peabody Museum of Archaeology and Ethnology accession records indicate that the remains are those of a “Comanche” individual from the “Plains region.” The attribution of such a specific cultural affiliation to the human remains indicates that, at the time that the remains were acquired, the collector probably had direct knowledge of the individual's cultural affiliation. This information indicates that the remains probably date to the historic period and are the remains of a Comanche individual. The Comanche are represented by the present-day Comanche Indian Tribe, Oklahoma.

Based on the above-mentioned information, officials of the Peabody Museum of Archaeology and Ethnology have determined that, pursuant to 43 CFR 10.2 (d)(1), the human remains listed above represent the physical remains of one individual of Native American ancestry. Officials of the Peabody Museum of Archaeology and Ethnology also have determined that, pursuant to 43 CFR 10.2 (e), there is a relationship of shared group identity that can be reasonably traced between these Native American human remains and the Comanche Indian Tribe, Oklahoma.

This notice has been sent to officials of the Comanche Indian Tribe, Oklahoma. Representatives of any other Indian tribe that believes itself to be culturally affiliated with these human remains should contact Barbara Isaac, Repatriation Coordinator, Peabody Museum of Archaeology and Ethnology, Harvard University, 11 Divinity Avenue, Cambridge, MA 02138, telephone (617) 495-2254, before May 3, 2001. Repatriation of the human remains to the Comanche Indian Tribe, Oklahoma may begin after that date if no additional claimants come forward.

Dated: March 21, 2001.
John Robbins,
Assistant Director, Cultural Resources Stewardship and Partnerships.

[FR Doc. 01-8171 Filed 4-2-01; 8:45 am]

BILLING CODE 4310-70-P